FEDERAL COMMUNICATIONS COMMISSION

47 CFR Part 73

[DA 06-1901; MB Docket No. 06-11; RM-11304]

Radio Broadcasting Services; Crowell, TX

AGENCY: Federal Communications Commission.

ACTION: Proposed rule; dismissal.

SUMMARY: At the petitioner's request, the Audio Division has dismissed the proposal of Jeraldine Anderson (“Anderson”) to allot Channel 250A at Crowell, Texas. Anderson had filed a petition for rule making proposing the allotment of Channel 250A at Crowell, Texas, as the community's second local FM transmission service. The Audio Division further dismissed the counterproposal submitted in the proceeding by Linda Crawford (“Crawford”), upon Crawford's request to withdraw that proposal. Finally, the Audio Division dismissed the counterproposal submitted in the proceeding by LKCM Radio Group, L.P., licensee of FM Station KFWR, Mineral Wells, Texas; Fort Worth Media Group GP, LLC, licensee of FM Station KYBE, Frederick, Oklahoma; and LKCM Radio Licenses, LP, the proposed assignee of KFWR and KYBE (collectively, “Joint Parties”). The Joint Parties' counterproposal was dismissed for failure to meet the Commission's minimum distance separation requirements with respect to FM Station KRZB, Channel 248C2, Archer City, Texas.

FOR FURTHER INFORMATION CONTACT: Deborah Dupont, Media Bureau, (202) 418-2180.

SUPPLEMENTARY INFORMATION: This is a synopsis of the Commission's Report and Order, MB Docket No. 06-11, RM-11304, adopted September 20, 2006, and released September 22, 2006. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document is not subject to the Congressional Review Act. The Commission is, therefore, not required to send a copy of this Report and Order in a report to be sent to Congress and the Government Accountability Office pursuant to the Congressional Review Act, see U.S.C. 801(a)(1)(A), because the proposed rule was dismissed.

Federal Communications Commission.
John A. Karousos,
Assistant Chief, Audio Division, Media Bureau

[FR Doc. E6-17348 Filed 10-17-06; 8:45 am]

BILLING CODE 6712-01-P